DEPARTMENT OF HEALTH AND HUMAN SERVICES

Centers for Disease Control and Prevention

Disease, Disability, and Injury Prevention and Control Special Emphasis Panel: Cooperative Agreement for Development of the National Violent Death Reporting System, Program Announcement #03038

In accordance with section 10(a)(2) of the Federal Advisory Committee Act (Pub. L. 92-463), the Centers for Disease Control and Prevention (CDC) announces the following meeting:

Name: Disease, Disability, and Injury Prevention and Control Special Emphasis Panel (SEP): Cooperative Agreement for Development of the National Violent Death Reporting System, Program Announcement #03038.

Times and Dates: 8:30 a.m.-8:50 a.m., June 30, 2003. (Open); 8:50 a.m.-4 p.m., June 30, 2003. (Closed)

Place: The Westin Atlanta North at Perimeter, 7 Concourse Parkway, Atlanta, GA 30328, Telephone 770.395.3900.

Status: Portions of the meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to Program Announcement #03038.

For Further Information Contact: James Belloni, Deputy Director, Office of Program Management and Operations, National Center For Injury Prevention and Control, CDC, 4770 Buford Highway NE., MS-K-62, Atlanta, GA 30341, Telephone 770.488.4538.

The Director, Management Analysis and Services Office, has been delegated the authority to sign Federal Register notices pertaining to announcements of meetings and other committee management activities, for both CDC and the Agency for Toxic Substances and Disease Registry.

Dated: June 5, 2003.
Alvin Hall,
Director, Management Analysis and Services Office, Centers for Disease Control and Prevention (CDC).

[FR Doc. 03-14927 Filed 6-12-03; 8:45 am]

BILLING CODE 4163-18-P